DEPARTMENT OF COMMERCE

International Trade Administration

U.S. Education Mission to Poland and Czech Republic Warsaw, Poland and Prague, Czech Republic, April 15-19, 2012

AGENCY: International Trade Administration, Department of Commerce.

ACTION: Notice.

Mission Description

The United States Department of Commerce, International Trade Administration, U.S. & Foreign Commercial Service, is coordinating and sponsoring an education industry trade mission to Warsaw, Poland and Prague, Czech Republic from April 15 to 19, 2012. This mission will include representatives from regionally accredited graduate programs and 4-year undergraduate educational institutions. This mission will seek to connect United States education institutions to potential students, university/institution partners and education consultants in Poland and the Czech Republic. The mission will include one-on-one appointments with potential partners, embassy briefings, student fairs and networking events in Warsaw and Prague, which represent the largest cities in two dynamic and growing countries that hold high potential for U.S. educational institutions interested in students from this region.

Commercial Setting

Poland

Poland is a prime target from which U.S. educational institutions can successfully recruit both graduate and undergraduate students. This market is not only the sixth largest country in the European Union in terms of population, but from a demographics standpoint, the population is heavily skewed towards young students with keen interest in higher education per the Ministry of Education. Poland's total population of 38 million includes over 5.5 million young people from 15 to 24 years of age, including 1.9 million students.

Polish students are well-disposed toward the United States, as exemplified by their foreign language curriculum. English is the first choice for a second language in this market and is used by almost all high school and university students. Since 2004, when Poland joined the European Union, Polish young adults have been participating in the European Union educational programs. Increasingly, young Polish students are also interested in expanding their experiences beyond the European Union. There is thus a strong core group of students who are very interested in studying in the United States per recent trends and sources.

Over 450 institutions of higher education exist in Poland, including 132 of public origin. Poland is currently undergoing a higher education reform. The legislation became effective October 1, 2011 and is expected to better organize and streamline the education process. The changes are expected to raise the standards for access to free-of-charge study programs, a side effect which may result in increased interest in studying abroad.

The Polish Ministry of Education and other higher education authorities strongly encourage Polish students to study abroad, and welcome foreign students to study in Poland as well. While most Polish students choose to study abroad in Europe, the interest in studying in the United States is still quite high. As in other European countries, the number of students studying in the United States has slightly declined over the last few years, mainly due to the global fiscal crisis. For the 2009/2010 academic year, there were 2,264 Polish students studying in the United States, compared to 2,772 in 2008. With the Polish economy continuing to experience positive growth and with stronger interest on the part of U.S. educational institutions to focus on the market, the trend is expected to reverse. It should be well noted that currently a balanced interest exists in both undergraduate as well as graduate studies.

Czech Republic

Study abroad programs are popular in the Czech Republic, as Czechs discovered travel and study abroad in the 1990s after the fall of communism. Though the number of Czechs studying in the United States experienced a decline in recent years, to about 1,000 students, current exchange rates and the visa waiver program are making U.S. education more attractive. The majority of university students are interested in economic and humanities subjects while technical areas rank as their third choice.

English is the standard second language in the Czech Republic, providing a large pool of candidates for both undergraduate and graduate studies in the U.S. A recent government decision that will make English language mandatory for primary school students should improve the ability of Czech students to study at U.S. universities and colleges. Many U.S. higher education institutions have under-targeted this market and can take reap extra student recruitment opportunities in a country that has not been saturated with overseas student recruitment fairs.

Mission Goals

The goals of the U.S. Education Mission to the Czech Republic and Poland are:

(1) To gain market exposure and introduce participants to two growing student markets in the region, taking advantage of the United States' strong ties and positive reputation in these countries.

(2) To develop market knowledge and relationships that can enhance future recruitment of students as well as potential partnerships with local educational institutions

Mission Scenario

Participation in the mission will include the following:

• Pre-travel briefings/webinars;

• Embassy/consulate and industry briefings;

• Networking reception at Ambassador's Residence in Warsaw;

• Pre-scheduled meetings with university heads and educational consultants in Warsaw and Prague;

• Student recruitment fairs in Warsaw and Prague;

• Airport transfers to hotels and sites in Warsaw and Prague .

The precise schedule will depend on the specific goals and objectives of the mission participants.

Proposed Timetable—April 15-19 2012
Sunday, April 15, 2012 | Arrive Warsaw.
Evening | Individual transfer to the hotel.
Monday, April 16
8:30 a.m. | Embassy briefing.
10:00 a.m. | Meeting at the Ministry of Higher Education or with one of the universities/schools.
11:30-1:00 p.m. | Set-up the venue and lunch on your own.
1:30-5:30 p.m. | Event.
5:30 p.m. | Closing down.
6:30-8:00 p.m. | Reception at the Residence.
9:00 p.m. | Return to hotel
Tuesday, April 17
8:30AM-12:00 p.m. | Individual meetings with Polish educational institutions, agents and other partners.
Afternoon | Plane Departure to Prague.
Wednesday, April 18
8:30-11:00AM | Breakfast and School Participant Meetings with Prospective Partners (Optional).
11:30-1:00 p.m. | Set-up the venue and lunch on your own.
2:00 p.m. | Embassy briefing.
3:00 p.m. | Event.
7:00 p.m. | Close down.
8:00 p.m. | Return to hotel.

Participation Requirements

All parties interested in participating in the Mission to the Czech Republic and Poland must complete and submit an application for consideration by the U.S. Department of Commerce. All applicants will be evaluated on their ability to meet certain conditions and best satisfy the selection criteria as outlined below. The mission will include a minimum of 15 and maximum of 20 qualified, regionally accredited U.S. education institutions.

Fees and Expenses

After an educational institution has been selected to participate on the mission, a payment to the U.S. Department of Commerce in the form of a participation fee is required. The participation fee is $1,995 for one principal representative from each regionally accredited educational institution.¹ The fee for each additional representative is $500. Expenses for lodging, some meals, incidentals, and all travel (except for transportation to and from airports in-country, previously noted) will be the responsibility of each mission participant.

¹ An SME is defined as a firm with 500 or fewer employees or that otherwise qualifies as a small business under SBA regulations (see http://www.sba.gov/services/contracting opportunities/sizestandardstopics/index.html). Parent companies, affiliates, and subsidiaries will be considered when determining business size. The dual pricing reflects the Commercial Service's user fee schedule that became effective May 1, 2008 (see http://www.export.gov/newsletter/march2008/initiatives.html for additional information).

Conditions for Participation

An applicant must submit a timely, completed and signed mission application and supplemental application materials, including adequate information on courses offerings, primary market objectives, and goals for participation.

Selection Criteria for Participation

Selection will be based on the following criteria:

• Suitability of a company's products or services to the mission's goals;

• Applicant's potential for business in Mexico, including likelihood of exports resulting from the trade mission;

• Consistency of the applicant's goals and objectives with the stated scope of the trade mission (i.e., the sectors indicated in the mission description).

Referrals from political organizations and any documents containing references to partisan political activities (including political contributions) will be removed from an applicant's submission and not considered during the selection process.

Selection Timeline

Mission recruitment will be conducted in an open and public manner, including publication in the Federal Register, posting on the U.S. Department of Commerce trade mission calendar (http://www.trade.gov/trade-missions) and other Internet Web sites, press releases to general and trade media, direct mail, notices by industry trade associations and other multiplier groups, and publicity at industry meetings, symposia, conferences, and trade shows. Recruitment for the mission will begin immediately and conclude no later than January 31, 2012. The mission will be open on a first-come, first-serve basis. Applications received after that date will be considered only if space and scheduling constraints permit.

Contacts

Mr. James Paul, Director, CS Boston, MA, Phone: (617) 565-4304/Fax: (617) 565-4313, Email: jpaul@trade.gov.

Gabriela Zelaya, International Trade Specialist, CS San Jose, CA, Phone: (408) 535-2757, Ext. 107/Fax: (408) 535-2758, Gabriela.Zelaya@trade.gov.

Elnora Moye,
Trade Program Assistant.

[FR Doc. 2011-31422 Filed 12-6-11; 8:45 am]

BILLING CODE 3510-FP-P